DEPARTMENT OF THE INTERIOR

Fish and Wildlife Service

Migratory Bird Permits; Draft Environmental Impact Statement on Double-crested Cormorant Management

AGENCY: Fish and Wildlife Service, Interior.

ACTION: Notice of meetings; extension of comment period.

SUMMARY: The U.S. Fish and Wildlife Service (Service or we) invites public participation in public meetings associated with the comment period for a Draft Environmental Impact Statement (DEIS) on double-crested cormorant management. The DEIS has been prepared under the authority of the National Environmental Policy Act and the Migratory Bird Treaty Act and analyzes the potential environmental impacts of several management alternatives to address conflicts associated with double-crested cormorants. This notice describes the proposed action and the other five management alternatives analyzed in the DEIS; identifies the locations, dates, and times of public meetings; and identifies the Service official to whom comments may be directed.

DATES: Written comments regarding the DEIS should be submitted by February 28, 2002, to the address below. Dates and times for ten public meetings are listed in the table under SUPPLEMENTARY INFORMATION.

ADDRESSES: Requests for copies of the DEIS should be mailed to Chief, Division of Migratory Bird Management, U.S. Fish and Wildlife Service, 4401 N. Fairfax Dr., Room 634, Arlington, VA 22203. Written comments on the DEIS can be sent by the following two methods:

(1) By mail to the above address; or

(2) By email to: cormorant_eis@fws.gov.

Please include your name and mailing address in all comments submitted; anonymous comments will not be considered. The public meetings will be held at the locations listed in the table under SUPPLEMENTARY INFORMATION.

FOR FURTHER INFORMATION CONTACT: Jon Andrew, Division of Migratory Bird Management, (703) 358-1714.

SUPPLEMENTARY INFORMATION: On November 8, 1999, we published a notice of intent in the Federal Register (64 FR 60826) to prepare an EIS and national management plan for double-crested cormorants in the contiguous United States. This notice began the public scoping period, during which we received over 1,400 written comments and held scoping meetings attended by over 700 individuals. On December 3, 2001, we notified the public of the availability of the DEIS in the Federal Register (66 FR 60218). In this notice, we indicated that the comment period would end on January 15, 2002. However, due to the timing of public meetings and requests from the public, we are extending the comment period to February 28, 2002. In preparation of the Final Environmental Impact Statement, we will consider all public comments received on or before this date.

All comments received, including names and addresses, will become part of the public record. The public may inspect comments during normal business hours in Room 634, Arlington Square Building, 4401 N. Fairfax Drive, Arlington, Virginia. Such requests will be handled in accordance with the Freedom of Information Act and the Council on Environmental Quality's National Environmental Policy Act regulations (40 CFR 1506.6(f)). Individual respondents may request that we withhold their name and/or home address from the record, which we will honor to the extent allowable by law. If a respondent wishes us to withhold his/her name and/or address, this must be stated prominently at the beginning of the document.

Alternatives

The DEIS describes and evaluates six alternatives for the purposes of reducing conflicts associated with cormorants, enhancing the flexibility of natural resource agencies to deal with cormorant conflicts, and ensuring the health and viability of cormorant populations. Alternatives, including the proposed action, were analyzed with regard to their potential impacts on cormorant populations, fish, other birds, vegetation, federally listed threatened and endangered species, water quality and human health, economic impacts (including aquaculture and sport fishing-related economies), fish hatcheries and environmental justice, property losses, and existence and aesthetic values. We analyzed the anticipated environmental effects of the following management alternatives: (1) Continue current cormorant management practices (No Action); (2) implement only non-lethal management techniques; (3) expand current cormorant damage management practices; (4) establish a new Depredation Order to address public resource conflicts (PROPOSED ACTION); (5) reduce regional cormorant populations; and (6) establish frameworks for a cormorant hunting season.

The proposed action would establish a Public Resource Depredation Order that allows State, Federal, and Tribal land management agencies to manage cormorants that are injurious to public resources such as fisheries, vegetation, and other wildlife species. Thus, control actions could take place without a federal permit on the agency's lands and waters or nearby private lands and waters (with appropriate landowner permission). Agencies that conduct control activities under the Public Resource Depredation Order would be subject to reporting and monitoring requirements, overseen by the Service. Additionally, under the proposed action, the current Aquaculture Depredation Order would be expanded to allow control of cormorants by wildlife damage professionals at winter roost sites; and Director's Order 27, restricting the use of depredation permits at public fish cultural facilities, would be revoked.

Public Meetings

Ten public meetings will be held at the locations and times listed below:

Date | City | Location | Time
January 7, 2002 | Green Bay, Wisconsin | Ramada Plaza Hotel, 2750 Ramada Way | 7:00 PM
January 8, 2002 | Mackinaw City, Michigan | Hamilton Inn Select, 701 S. Huron Avenue | 7:00 PM
January 16, 2002 | Washington, DC | Main Interior Building Auditorium, 1849 C Street, NW | 10:00 AM
January 28, 2002 | Jackson, Mississippi | Ramada Inn Southwest, 1525 Ellis Avenue | 7:00 PM
January 29, 2002 | Little Rock, Arkansas | University of Arkansas, Division of Agriculture, Cooperative Extension Service, 2301 S. University Avenue | 7:00 PM
February 4, 2002 | Athens, Texas | Texas Freshwater Fisheries Center, 5550 Flat Creek Road (Farm Road 2495) | 7:00 PM
February 11, 2001 | South Burlington, Vermont | Clarion Hotel, 1117 Williston Road | 7:00 PM
February 12, 2002 | Watertown, New York | Dulles State Office Building, 317 Washington Street | 7:00 PM
February 13, 2002 | Syracuse, New York | Sheraton University Hotel, 801 University Avenue | 7:00 PM
February 19, 2002 | Portland, Oregon | Doubletree Hotel-Lloyd Center, 1000 NE Multnomah | 7:00 PM

Dated: December 13, 2001.
Marshall Jones,
Acting Director, U.S. Fish & Wildlife Service.

[FR Doc. 01-31272 Filed 12-18-01; 8:45 am]

BILLING CODE 4310-55-P